DEPARTMENT OF JUSTICE

Antitrust Division

Notice Pursuant to the National Cooperative Research and Production Act of 1993—ODPi, Inc.

Notice is hereby given that, on September 17, 2018, pursuant to Section 6(a) of the National Cooperative Research and Production Act of 1993, 15 U.S.C. 4301 et seq. (“the Act”), ODPi, Inc. (“ODPi”) has filed written notifications simultaneously with the Attorney General and the Federal Trade Commission disclosing changes in its membership. The notifications were filed for the purpose of extending the Act's provisions limiting the recovery of antitrust plaintiffs to actual damages under specified circumstances. Specifically, Infosys Limited, Bengaluru, INDIA; EMC Corporation, Hopkinton, MA; General Electric Company, San Ramon, CA; WANdisco, Inc., San Ramon, CA; Ampool, Inc., Santa Clara, CA; DataTorrent, Santa Clara, CA; XIILAB Co., Ltd., Gyeonggi, REPUBLIC OF KOREA; VMWare, Inc., Palo Alto, CA; General Motors, Detroit, MI; 4C Decision, Herndon, VA; and Skytechnology sp. z o.o., Warsaw, POLAND, have withdrawn as parties to this venture.

In addition, SAS Institute, Inc., Cary, NC; and China Mobile Communication Company Ltd., Beijing, PEOPLE'S REPUBLIC OF CHINA were reported in error on the last filing as parties who had withdrawn from this venture. SAS Institute, Inc. and China Mobile Communication Company Ltd. remain as parties to this venture.

No other changes have been made in either the membership or planned activity of the group research project. Membership in this group research project remains open, and ODPi intends to file additional written notifications disclosing all changes in membership.

On November 23, 2015, ODPi filed its original notification pursuant to Section 6(a) of the Act. The Department of Justice published a notice in the Federal Register pursuant to Section 6(b) of the Act on December 23, 2015 (80 FR 79930).

The last notification was filed with the Department on April 6, 2018. A notice was published in the Federal Register pursuant to Section 6(b) of the Act on May 4, 2018 (83 FR 19836).

Suzanne Morris,
Chief, Premerger and Division Statistics Unit, Antitrust Division.

[FR Doc. 2018-22082 Filed 10-10-18; 8:45 am]

BILLING CODE 4410-11-P